DEPARTMENT OF COMMERCE

Foreign-Trade Zones Board

[S-120-2021]

Approval of Subzone Status; Mercedes Benz USA, LLC, Vance, Alabama

On August 10, 2021, the Executive Secretary of the Foreign-Trade Zones (FTZ) Board docketed an application submitted by the City of Birmingham, Alabama, grantee of FTZ 98, requesting subzone status subject to the existing activation limit of FTZ 98, on behalf of Mercedes Benz USA, LLC, in Vance, Alabama.

The application was processed in accordance with the FTZ Act and Regulations, including notice in the Federal Register inviting public comment (86 FR 45703, August 16, 2021). The FTZ staff examiner reviewed the application and determined that it meets the criteria for approval. Pursuant to the authority delegated to the FTZ Board Executive Secretary (15 CFR Sec. 400.36(f)), the application to establish Subzone 98G was approved on October 6, 2021, subject to the FTZ Act and the Board's regulations, including Section 400.13, and further subject to FTZ 98's 612-acre activation limit.

Dated: October 6, 2021.
Andrew McGilvray,
Executive Secretary.

[FR Doc. 2021-22214 Filed 10-12-21; 8:45 am]

BILLING CODE 3510-DS-P